SMALL BUSINESS ADMINISTRATION

[Disaster Declaration #20997 and #20998; WEST VIRGINIA Disaster Number WV-20017]

Presidential Declaration of a Major Disaster for Public Assistance Only for the State of West Virginia

AGENCY: U.S. Small Business Administration.

ACTION: Notice.

SUMMARY: This is a Notice of the Presidential declaration of a major disaster for Public Assistance Only for the State of West Virginia (FEMA-4861-DR), dated March 19, 2025.

Incident: Severe Storm, Straight-line Winds, Flooding, Landslides and Mudslides.

DATES: Issued on March 19, 2025.

Incident Period: February 15, 2025, through February 18, 2025.

Physical Loan Application Deadline Date: May 19, 2025.

Economic Injury (EIDL) Loan Application Deadline Date: December 19, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration on March 19, 2025, Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

The following areas have been determined to be adversely affected by the disaster:

Primary Counties: Greenbrier, Lincoln, Logan, McDowell, Mercer, Mingo, Monroe, Summers, Wayne, Wyoming.

The Interest Rates are:

| Percent
For Physical Damage:
Non-Profit Organizations with Credit Available Elsewhere | 3.625
Non-Profit Organizations without Credit Available Elsewhere | 3.625
For Economic Injury:
Non-Profit Organizations without Credit Available Elsewhere | 3.625

The number assigned to this disaster for physical damage is 209976 and for economic injury is 209980.

(Catalog of Federal Domestic Assistance Number 59008)

James Stallings,
Associate Administrator, Office of Disaster Recovery & Resilience.

[FR Doc. 2025-05101 Filed 3-25-25; 8:45 am]

BILLING CODE 8026-09-P